DEPARTMENT OF LABOR

Fiscal Year (FY) 2016 Through FY 2017 Stand Down Grant Requests

AGENCY: Veterans' Employment and Training Service (VETS), Department of Labor.

ACTION: Amendment to Federal Register, 80 FR 80390 (Dec. 24, 2015) [FR Doc. 2015-32406 Filed 12-23-15; 8:45 a.m.].

SUMMARY: This notice amends 80 FR 80390 (Dec. 24, 2015) [FR Doc. 2015-32406 Filed 12-23-15; 8:45 a.m.]. The revised language is below:

I. Funding Opportunity Description

The following service must be available for homeless veteran participants during the Stand Down event:

• Department of Labor (DOL)—State Workforce Agency (SWA) employment and training services to include Disabled Veterans' Outreach Program (DVOP) specialist or other American Job Center (AJC) staff (see the following link to locate available resources in your area: www.servicelocator.org).

The following services are strongly encouraged, where available:

• Department of Veterans Affairs (VA)—benefits, medical and mental health services, and

• Referral services to secure immediate emergency housing.

IV. Application Content

7. The following letter of support must be provided:

The state or local AJC and/or DVOP specialist(s) stating they will provide Department of Labor-funded employment and training services at the Stand Down event. These basic or core services are required in Section I.

The following three letters of support are strongly encouraged but not required to receive an award:

A. the VA stating what benefits, medical and mental health services will be available at the event as encouraged in Section I.

B. the organization that will provide immediate emergency housing based on referrals from the Stand Down event as encouraged in Section I, and

C. different organizations such as the Department of Housing and Urban Development, the local Continuum of Care, Veteran Service Organizations, state and local government agencies, local businesses, and local on-profit organizations including community based and faith-based organizations that will support the event.

FOR FURTHER INFORMATION CONTACT: Thomas Martin, Grant Officer, Office of Grants Management, at (202) 693‐2989, Martin.Thomas@dol.gov.

Sam Shellenberger,
Deputy Assistant Secretary, Veterans' Employment and Training Service.

[FR Doc. 2017-06106 Filed 3-27-17; 8:45 am]

BILLING CODE 4510-79-P